DEPARTMENT OF HOUSING AND URBAN DEVELOPMENT

[Docket No. FR-6487-N-01]

Allocating Lead Hazard Control and Healthy Homes Grant Funding Using a Formula Approach; Request for Information

AGENCY: Office of Lead Hazard Control and Healthy Homes, Department of Housing and Urban Development (HUD).

ACTION: Request for information.

SUMMARY: Through this request for information (RFI), HUD seeks public input regarding the development of program components for a formula grant program to allocate funding for HUD's Lead Hazard Reduction and Healthy Homes grant programs. Currently, these grant programs are statutorily required to make funding awards on a competitive basis; however, HUD has requested Congressional approval to award a portion of grant funds to eligible jurisdictions using a formula rather than using the competitive, and procedurally more complex, process for these jurisdictions to apply for grants. HUD believes that a formula grant program may allow more efficient distribution of funding to highest need communities, streamline the selection and award of grants, and help maximize funding utilization.

DATES: Comment Due Date: November 15, 2024. Late-filed comments will be considered to the extent practicable.

ADDRESSES: Interested persons are invited to submit comments responsive to this RFI. There are two methods for submitting public comments. All submissions must refer to the above docket number and title.

1. Electronic Submission of Comments. Comments may be submitted electronically through the Federal eRulemaking Portal at www.regulations.gov. HUD strongly encourages commenters to submit comments electronically. Electronic submission of comments allows the commenter maximum time to prepare and submit a comment, ensures timely receipt by HUD, and enables HUD to make comments immediately available to the public. Comments submitted electronically through www.regulations.gov can be viewed by other commenters and interested members of the public. Commenters should follow the instructions provided on that website to submit comments electronically.

2. Submission of Comments by Mail. Comments may be submitted by mail to the Regulations Division, Office of General Counsel, Department of Housing and Urban Development, 451 7th Street SW, Room 10276, Washington, DC 20410-0500.

Public Inspection of Public Comments. All properly submitted comments and communications will be available for public inspection and copying between 8 a.m. and 5 p.m. eastern time weekdays at the above address. Due to security measures at the HUD Headquarters building, you must schedule an appointment in advance to review the public comments by calling the Regulations Division at 202-708-3055 (this is not a toll-free number). HUD welcomes and is prepared to receive calls from individuals who are deaf or hard of hearing, as well as individuals with speech or communication disabilities. To learn more about how to make an accessible telephone call, please visit https://www.fcc.gov/consumers/guides/telecommunications-relay-service-trs. Copies of all comments submitted are available for inspection and downloading at www.regulations.gov.

FOR FURTHER INFORMATION CONTACT: Peter Han, Office of Lead Hazard Control and Healthy Homes, Department of Housing and Urban Development, 451 7th Street SW, Room 8236, Washington, DC 20410-3000, telephone 202-402-7698 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

The purpose of HUD's Lead Hazard Reduction grant programs is to maximize the number of children under the age of six protected from lead poisoning by assisting certain States and Tribes,¹ as well as cities, counties/parishes, and other units of local government in undertaking comprehensive programs to identify and control lead-based paint hazards ² in eligible privately-owned rental or owner-occupied housing populations. Operating since 1993, these programs award grants on a competitive basis as required by statute.³ Under the Residential Lead-Based Paint Hazard Reduction Act of 1992, commonly referred to as title X,⁴ States and units of local government are eligible for these grant programs if they have an approved comprehensive housing affordability strategy. States and Tribes must also be authorized by the Environmental Protection Agency (EPA) to administer the certification program for lead abatement professionals and contractors to conduct such work within their jurisdiction.⁵

¹ States and federally recognized Native American Tribes must have an Environmental Protection Agency- (EPA-) authorized lead abatement certification program to receive funding through HUD's Lead Hazard Reduction grant program.

² 42 U.S.C. 4851b, for which “appropriate Federal agency” is, per 15 U.S.C. 2683, the EPA, which issues its regulation operationalizing the statutory definition at 40 CFR 745.65.

³ See 42 U.S.C. 4852.

⁴ 42 U.S.C. 4822 et seq., 4851 et seq.

⁵ As noted in fn. 1, EPA allows federally recognized Tribes to be authorized to administer lead abatement certification programs. For additional information, see the Environmental Protection Agency, Lead; Requirements for Lead-Based Paint Activities in Target Housing and Child-Occupied Facilities, section IX.F (Treatment of Tribes as a State), 61 FR 45778, 45805 (Aug. 29, 1996). Because title X, sec. 1011(n) (Relationship to other law) requires that States have lead abatement certification program authorization from EPA to be awarded a Lead Hazard Reduction grant, HUD also treats Tribes as a State for this purpose and requires that they have such authorization to be awarded such a grant.

Under the Lead Hazard Reduction grant programs, HUD makes available Healthy Homes Supplemental funding that is intended to enhance the lead-based paint hazard control activities by comprehensively identifying and addressing other housing-related hazards that affect occupants' health in homes where lead hazard reduction work is being conducted under the grant programs. The Healthy Homes Supplements are authorized under section 501 and 502 of the Housing and Urban Development Act of 1970.⁶

⁶ 12 U.S.C. 1701z-1 and 1701z-2.

Funding for these Lead Hazard Reduction grant programs is provided in annual appropriations to HUD, specifically to its Office of Lead Hazard Control and Healthy Homes (OLHCHH). As of the publication of this RFI, the two most recent fiscal years' appropriations were:

• The Consolidated Appropriations Act, 2023.⁷ The OLHCHH's appropriation is within division L, title II, of the Act.

⁷ Public Law 117-328, 136 Stat. 4459, 5167-68 (Dec. 29, 2022).

• The Consolidated Appropriations Act, 2024.⁸ The OLHCHH's appropriation is within division F, title II, of the Act.

⁸ Public Law 118-42, 138 Stat. 7, 370-372 (Mar. 29, 2024).

As authorized by the cited Appropriations Acts, HUD publishes notices of funding opportunity (NOFOs) for the Lead Hazard Reduction grant programs and awards grants competitively based on applications submitted in response to the NOFOs. HUD publishes its NOFOs on the Grants.gov website of the Department of Health and Human Services.⁹ HUD posted its fiscal year (FY) 2023 and FY 2024 Lead Hazard Reduction NOFOs on June 14, 2023, and June 21, 2024, respectively.¹⁰

⁹ See https://www.grants.gov/. The grants.gov website is designed to enable Federal grant-making agencies to create funding opportunities and applicants to find and apply for these Federal grants.

¹⁰ See https://www.grants.gov/search-results-detail/341222; https://www.grants.gov/search-results-detail/355076.

In its FY 2025 budget proposal, HUD requested Congressional approval to award a portion of allotted Lead Hazard Reduction Grants, and all of the Lead Hazard Reduction Demonstration Grants, by formula grants instead of the traditional competitive grants, together with proportional Healthy Homes Supplemental funding.¹¹ If Congress approves HUD's budget request for FY 2025 or in a subsequent year, a new formula grant program design would reduce the procedural complexity placed on jurisdictions to apply for grants, streamline the process for HUD to select jurisdictions to receive these formula grants, allow more efficient distribution of funding to communities facing the most substantial lead paint hazard problems, and help maximize funding utilization when complemented by a portion of the funds being used for competitive grants. Federal financial assistance for these grants will still be conditioned upon HUD receiving Certifications and Assurances of nondiscrimination. The requirements to fulfill this requirement will be in the notice announcing funding if this grant change is implemented.

¹¹ Described in HUD's budget Congressional justification, https://www.hud.gov/sites/dfiles/CFO/documents/2025_CJ_Program_-_Lead_Hazard_Reduction_v2.pdf.

II. Purpose of This Request for Information

A major HUD operational goal for the Lead Hazard Reduction grant programs is to expedite resources into communities to create homes free of lead-based paint hazards for at-risk families, especially their children, by funding lead hazard reduction activities—whether permanent or not.¹² In addition, the programs' grant awards may be accompanied by Healthy Homes Supplements to mitigate other housing-related health hazards. To accomplish this goal and continue HUD's efforts to reduce barriers to access grant funding, improve the customer experience for Lead Hazard Reduction grant applicants and grantees, and actively solicit input of program grantees and beneficiaries, HUD is soliciting comment through this RFI regarding the development of a potential new grant program that would make Lead Hazard Reduction grant awards using formula grants rather than the competitive grants initiated through NOFOs.

¹² For HUD's general lead-based paint definitions for all programs, see 24 CFR 35.110.

HUD invites public input relating to the determination of a grantee's funding allocation by a formula and the specific criteria or objective measures that HUD should consider using in a formula. This determination of an appropriate funding allocation is critical because the funding amount for each recipient under a formula grant would be calculated based on these specific criteria or objective measures or other factors. HUD is aware of several published models that identify U.S. lead exposure risk based on lead indices and invites the public to provide input where these models should be used in the development of a possible, future formula grant program. HUD also invites public input related to the appropriate parameters for a possible, future formula grant program, including length of period of performance, jurisdictional level eligible recipients (e.g., city, county, State, Tribe), and frequency of recipient funding.

HUD emphasizes that it is not currently authorized to offer formula grants for the Lead Hazard Reduction and Healthy Homes grant programs and this RFI does not announce any new grant programs, formula-based or otherwise. Instead, HUD is issuing this RFI to seek public feedback regarding the potential use of a formula grant program for the Lead Hazard Reduction and Healthy Homes programs should Congress grant HUD the authority to allot a portion of funding through the use of a formula grant.

III. Specific Information Requested

While HUD welcomes all public comments relevant to improving the Lead Hazard Reduction and Healthy Homes grant programs, HUD is particularly interested in receiving input on the questions listed below. To assist commenters, HUD provides the following guidance and list of specific information requested.

Please indicate in your written comments the area of interest and the topic number(s) you are commenting on and provide specific information to illustrate your comments where possible. You do not need to address every topic, and you should focus on those topics where you have relevant expertise, experience, or data. To the extent possible, please cite any public data, peer-reviewed journal articles, and other publicly accessible information that relate to and supports your responses. If information or data is available but is non-public, describe the information or data to the extent permissible, noting that it is non-public.

The Fair Housing Act requires HUD and its recipients to affirmatively further fair housing by proactively taking meaningful actions to overcome patterns of segregation, promote fair housing choice, eliminate disparities in opportunities, and foster inclusive communities free from discrimination. In addition, all HUD programs have an obligation to advance racial equity and eliminate racial disparities under Executive Orders 13985 and 14091. Please consider this in addressing any of the questions below; you may provide feedback and evidence on ways that proposed criteria or policies may advance or frustrate these requirements.

HUD thanks submitters in advance for their information and comments.

1. Funding Criteria

a. Using available data, what criteria should be included in a formula for funding?

There are several HUD programs that use a formula allocation approach to funding, including the HOME Investment Partnerships Program (HOME) and the Community Development Block Grant (CDBG) Program.

For HOME, HUD determines the funding allocation for each participating jurisdiction using several objective measures. These measures include vacancy-adjusted rental units where the household head is at or below the poverty level; occupied rental units with at least one of four problems (overcrowding, incomplete kitchen facilities, incomplete plumbing, or high rent costs); rental units built before 1950 and occupied by poor households; rental units with problems, as described above, multiplied by the ratio of the cost of producing housing for a jurisdiction divided by the national cost; number of families at or below the poverty level; and population of a jurisdiction multiplied by a net per capita income.¹³

¹³ For additional information on the HOME formula allocation, see 24 CFR 92.50.

For the CDBG Program, HUD determines the amount of each entitlement grantee's funding allocation using several objective measures. These measures include demographic values of population; the extent of poverty; housing overcrowding; and age of housing (excluding this data for any Indian Tribes located within the grantee's jurisdiction(s)).¹⁴

¹⁴ For additional information on the CDBG allocation of funds, see 24 CFR 570.4.

HUD is not considering using either the HOME or CDBG Program formulas for a possible, future formula grant to allocate funding for HUD's Lead Hazard Reduction and Healthy Homes grant programs. Instead, HUD is seeking information from the public on which specific measures it should consider in developing a formula grant, such as rates of elevated blood lead levels in children; related housing, economic, and demographic factors more relevant for making homes lead-safe and healthy; and ways in which HUD should consider such measures.

b. There are available data models that have been used to identify well-defined geographic areas with greater risk of exposure to lead based paint. Should HUD use any of these models for a funding formula?

There is no national database that covers each State and local jurisdiction for determining and comparing the rates of elevated blood lead levels in children under age 6. The Centers for Disease Control and Prevention (CDC) maintains a National Surveillance Data table website ¹⁵ with State-level blood lead test data covering 34 States plus the District of Columbia (DC) and New York City.¹⁶ For each of these jurisdictions, the data covers some or all years from 2012 through 2018. CDC also maintains a Childhood Lead State Surveillance Data website with county-level data from up to 33 States plus DC.¹⁷ For each of these jurisdictions, the data covers some or all years from 2013 through 2017. The websites indicate that the data come from States (and certain other jurisdictions) funded by CDC for childhood lead poisoning prevention and surveillance, plus data provided voluntarily. CDC processes and validates data submissions.

¹⁵ Available at https://www.cdc.gov/lead-prevention/php/data/national-surveillance-data.html.

¹⁶ For the table with data in spreadsheet format, see https://www.cdc.gov/lead-prevention/media/files/cbls-national-data-table-sheet.xlsx.

¹⁷ See https://www.cdc.gov/lead-prevention/php/data/state-surveillance-data.html.

HUD is interested in how the CDC-maintained data and data in any other sources of nationally scoped, geographically specific blood lead data on children under age 6 can be used in a possible future formula grant. HUD is particularly interested in public comments on how to handle data gaps. For example, the 2023 Lead Hazard Reduction NOFO states, in rating applications, that “[i]f no data are shown for the state, use the most recent national percentage (for 2018), 3.0% of tested children < six (6) years with BLL >= 3.5 µg/dL.” For a formula grant program, is this an appropriate approach (with, for example, possible updating of the percentage if sufficient data from year(s) more recent than 2018 are available), or is there an improved approach for addressing available State-level or county-level data covering most States or most counties?

In addition, HUD is aware that there have been several risk models developed to identify U.S. lead exposure that include measures such as housing age and sociodemographic data.¹⁸ Therefore, HUD is interested in whether any of these risk models should be used, whether as is or with modification, how such risk models could be used as the basis for funding allocation, and whether their use is more advantageous than developing a different formula that uses several objective measures.

¹⁸ See, e.g., Zartarian V, Poulakos A, Helms Garrison V, Spalt N, Tornero-Velez R, Xue J, Egan K, and Courtney J, Lead Data Mapping to Prioritize US Locations for Whole-of-Government Exposure Prevention Efforts: State of the Science, Federal Collaborations, and Remaining Challenges, American Journal of Public Health 112, no. S7 (September 1, 2022): pp. S658-S669, https://doi.org/10.2105/AJPH.2022.307051, and references to models therein.

c. Because criteria can be applied to certain States and Tribes, and to counties, and cities (and comparable jurisdictions at each level), but grants should be non-duplicative, what approaches should be used to filter selection recommendations so that lower-rated jurisdictions within higher-rated jurisdictions are not also awarded grants for the same target area where lead hazard reduction work is to be done?

HUD's Lead Hazard Reduction grants are open to “[a] State or unit of local government that has [a HUD-] approved comprehensive housing affordability strategy . . . .” ¹⁹ The strategy is now part of a HUD-approved consolidated plan.²⁰ To avoid duplicate grants to a particular target area, the target area for a county grant is for the areas not covered by the higher-rated cities within it (e.g., the target area is the suburbs of any higher-rated cities within), and similarly, the target area for a State grant is for areas other than the higher rated cities and counties within (somewhat analogous to the concept of non-entitlement areas under State Community Development Block Grant Programs vs. entitlement communities under Community Development Block Grant Programs ²¹). HUD is interested in public comments regarding approaches for these types of filtering of the ratings of the various jurisdictions.

¹⁹ See 42 U.S.C. 4852(b).

²⁰ See 42 U.S.C. 12705(g)(1), 24 CFR 570.3 “Consolidated plan”, and, therefrom, sections. 91.5, 91.200, 91.300.

²¹ For example, compare 24 CFR part 570, subpart I with 24 CFR part 570, subpart D.

2. In addition to the criteria included in a formula for funding, should there be other considerations for the award of formula grants?

a. High performing competitively awarded grants.

HUD has approximately 199 Lead Hazard Reduction grantees holding approximately 212 grants. These grants were all awarded based on merit through a competitive process, using NOFOs as described above. In the past, HUD used a process where high performing Lead Hazard Reduction grantees could be “renewed” based on their performance; however, these subsequent awards were not automatic and were awarded competitively based on available funding and other conditions that had to be met by the applicant jurisdiction. HUD is interested in comments regarding whether a category for formula award should include current high performing grantees, whether awarded competitively or by formula, and, if so, what considerations should be used for renewing such grants.

b. Sequencing of awards to previously awarded formula-funded grants.

HUD has found that grantees, in the year following their award of a renewed Lead Hazard Reduction grant, tended to devote more attention to the earlier grant because it had passed the startup phase and was producing lead safe and healthy housing units. This added attention to earlier grants resulted in renewal grants tending to move more slowly through startup than grantees had committed to doing in their applications. In addition, some of the earlier grants tended not to produce lead safe units at the expected rate because the grantee's attention was divided between multiple grants. Given this tendency, HUD has been requiring a waiting period of 1 to 3 years before a Lead Hazard Reduction grantee is eligible for another Lead Hazard Reduction grant. For example, in its FY 2021 NOFO, HUD specified that if a jurisdiction received Lead Hazard Reduction grant funding in 2019 or 2020, it was not eligible to apply under the program; ²² and HUD specified in the FY 2024 NOFO that a jurisdiction that received Lead Hazard Reduction grant funding in 2023 was not eligible to apply under the program.²³ HUD is interested in feedback on whether a waiting period of two years is appropriate for a potential Lead Hazard Reduction formula grant or whether some other waiting period would be appropriate for maximizing the production of lead safe and healthy housing units by individual formula grantees and the program overall.

²² Available at https://www.grants.gov/search-results-detail/333884.

²³ Available at https://www.grants.gov/search-results-detail/355076.

c. Effect of poor performance under a previous grant on the award of a new formula grant.

HUD grant award requirements incorporate the Office of Management and Budget's (OMB) grant regulations, particularly its Uniform Administrative Requirements, Cost Principles, and Audit Requirements for Federal Awards at 2 CFR part 200. In particular, OMB's provisions relating to the award of grants ²⁴ state that the pre-Federal award requirements and contents of Federal awards ²⁵ apply to Federal grant agreements—such as the Lead Hazard Reduction grants with their Healthy Homes Supplements. Among those requirements is the Federal awarding agency review of risk posed by applicants. Awarding agencies, including HUD, must have a framework for evaluating the risks posed by applicants before they receive Federal awards.²⁶ HUD may decide that the risks posed by a particular jurisdiction are so high that the Department will not make an award to the jurisdiction, or HUD may apply special conditions to the grant that correspond to the degree of risk assessed. Among the factors that may be used in this risk evaluation is the jurisdiction's history of performance in managing Federal awards.²⁷

²⁴ See the table in 2 CFR 200.101(b)(2).

²⁵ 2 CFR part 200, subpart C.

²⁶ 2 CFR 200.206.

²⁷ 2 CFR 200.206(b)(2)(iii).

Under title X, HUD has a national perspective on the effective use of Lead Hazard Reduction grant funds to eliminate lead-based paint hazards in housing as expeditiously as possible.²⁸ HUD is interested in learning the public's views on how the poor performance of a prior-year Lead Hazard Reduction grantee (whether its grant is awarded competitively or by formula) should affect HUD's evaluation of the risk of awarding that grantee a formula grant. For example, HUD seeks suggestions regarding when not to award a grant to a previously poor performing grantee and, instead, award the funds to the jurisdiction with the next-highest need, and when and what special conditions to apply to a previously poor performing grantee.

²⁸ 42 U.S.C. 4851a(1).

3. Regarding award amounts, should a Lead Hazard Reduction formula grant program have smaller awards to geographically disperse the funding, or should larger grant amounts be awarded which would concentrate funding in certain highest-risk communities but reduce the number of jurisdictions receiving funds?

Title X identifies several purposes for the Lead Hazard Reduction program,²⁹ including to develop a national strategy to build the infrastructure necessary to eliminate lead-based paint hazards in all housing as expeditiously as possible and to reorient the national approach to the presence of lead-based paint in housing to implement, on a priority basis, a broad program to evaluate and reduce lead-based paint hazards in the Nation's housing stock. In implementing title X, HUD has awarded Lead Hazard Reduction grants across the U.S. to large and small jurisdictions, both rural and urban.

²⁹ 42 U.S.C. 4851a.

If a formula grant program is authorized, HUD intends to continue the approach regarding jurisdictions' size and urbanicity; however, HUD is interested in receiving feedback from the public on whether HUD's formula grant resources should focus on addressing lead-based paint hazards in as many as possible high-risk locations across the U.S or focus on areas of highest potential lead exposure risk to have a greater effect on communities at highest risk, or in a balance between the two (and what the balancing criteria should be).

4. What should be the period of performance duration for a formula grant?

HUD's FY 2023 and FY 2024 Lead Hazard Reduction grant programs each have specified 48-month periods of performance. Previous grantee periods of performance have been 36 months and 42 months. Historically, HUD has varied the periods of performance based predominately on the maximum award amount in a particular NOFO, with higher grant amounts necessitating longer periods of performance. HUD seeks public input on appropriate grant durations for a formula-based Lead Hazard Reduction grant.

Matthew Ammon,
Director, Office of Lead Hazard Control and Healthy Homes.

[FR Doc. 2024-21002 Filed 9-13-24; 8:45 am]

BILLING CODE 4210-67-P